DEPARTMENT OF TRANSPORTATION

Federal Aviation Administration

Notice of Intent To Rule on a Request To Release Surplus Property at the Myrtle Beach International Airport, Myrtle Beach, South Carolina

AGENCY: Federal Aviation Administration (FAA), DOT.

ACTION: Notice and request for comment.

SUMMARY: The Federal Aviation Administration (FAA) is considering a request from the Horry County Department of Airports to waive the requirement that 0.29 acres of surplus property located at the Myrtle Beach International Airport be used for aeronautical purposes. Currently, the ownership of the property provides for the protection of approach and departure Runway Protection Zones and compatible land use which would continue to be protected with deed restrictions required in the transfer of land ownership.

DATES: Comments must be received on or before May 17, 2021.

ADDRESSES: Comments on this application may be emailed or mailed to the FAA at the following address: Chaim Van Prooyen, Federal Aviation Administration, Atlanta Airports District Office, 1701 Columbia Ave., Ste. 220, College Park, GA 30337.

In addition, one copy of any comments submitted to the FAA must be mailed to: Scott Van Moppes, Director of Airport, Myrtle Beach International Airport, 1100 Jetport Road, Myrtle Beach, South Carolina 29577.

FOR FURTHER INFORMATION CONTACT: Chaim Van Prooyen, Federal Aviation Administration, Atlanta Airports District Office, 1701 Columbia Ave., Ste. 220, College Park, GA 30337, chaim.h.van.prooyen@faa.gov. The request to release property may be reviewed, by appointment, in person at this same location.

SUPPLEMENTARY INFORMATION: The FAA is reviewing a request to release 0.29 acres of surplus property at the Myrtle Beach International Airport (MYR) under the provisions of 49 U.S.C. 47151(d). On December 4, 2020, the Horry County Department of Airports requested the FAA release 0.29 acres of surplus property for the Fred Nash Boulevard expansion right-of-way. The FAA has determined that the proposed property release at the Myrtle Beach International Airport (MYR), as submitted by the Horry County Department of Airports, meets the procedural requirements of the FAA and release of the property does not and will not impact future aviation needs at the airport. The FAA may approve the request, in whole or in part, no sooner than thirty days after the publication of this notice. In accordance with 49 U.S.C. 47107(c)(2)(B)(i) and (iii), the airport will receive fair market value for the property, which will be subsequently reinvested in another eligible airport improvement project for aviation facilities at the Myrtle Beach International Airport.

Any person may inspect, by appointment, the request in person at the FAA office listed above under FOR FURTHER INFORMATION CONTACT. In addition, any person may, upon appointment and request, inspect the application, notice and other documents determined by the FAA to be related to the application in person at the Myrtle Beach International Airport.

Issued in Atlanta, GA on April 13, 2021.
Larry F. Clark,
Manager, Atlanta Airports District Office.

[FR Doc. 2021-07863 Filed 4-15-21; 8:45 am]

BILLING CODE 4910-13-P